NUCLEAR REGULATORY COMMISSION

[NUREG—1718]

Standard Review Plan for the Review of an Application for a Mixed Oxide (MOX) Fuel Fabrication Facility; Notice of Availability

AGENCY: Nuclear Regulatory Commission.

ACTION: Notice of availability.

SUMMARY: The Nuclear Regulatory Commission (NRC) has issued NUREG-1718 entitled Standard Review Plan for the Review of an Application for a Mixed Oxide (MOX) Fuel Fabrication Facility in final.

ADDRESSES: NUREG-1718 is available for inspection and copying for a fee at the Commission's Public Document Room, the Gelman Building, 2120 L Street, N.W., Washington, DC, and electronically from the ADAMS Public Library component on the NRC Web site, http://www.nrc.gov (the Public Electronic Reading Room).

A free single copy of NUREG-1718, to the extent of supply, may be requested by writing to the U.S. Nuclear Regulatory Commission, Distribution Services, Washington, DC 20555-0001 or submitting an e-mail to distribution@nrc.gov. NUREG-1718 is available on the World Wide Web at http://www.nrc.gov/NRC/NUREGS/indexnum.html.

FOR FURTHER INFORMATION CONTACT: For further information regarding NUREG-1718 contact Andrew Persinko, Office of Nuclear Material Safety and Safeguards, U.S. Nuclear Regulatory Commission, Washington, DC 20555, telephone (301) 415-6522.

SUPPLEMENTARY INFORMATION:

Background

The NRC expects to receive a license application from Duke Cogema Stone and Webster, commonly referred to as DCS, to license a Mixed Oxide (MOX) Fuel Fabrication Facility under 10 CFR Part 70. Under Part 70, the MOX facility is classified as a plutonium processing and fuel fabrication plant. As an applicant for a license to possess and use special nuclear material (SNM) at a plutonium processing and fuel fabrication plant, DCS must obtain the NRC's approval prior to starting to construct the facility. DCS has indicated its intent to submit the license application in two parts, information for a construction permit and information for a possession and use license for SNM. The NRC will first determine if it can grant DCS construction approval. The NRC makes this determination based on contents of the license application that are specifically required by Part 70 for construction approval. The required material is described in detail in 10 CFR 70.22(f).

Following the applicant's second submittal, the NRC will determine if it can grant DCS a possession and use license for SNM. The NRC makes this determination based on the full content of the license application as described in 10 CFR 70.22 and Subpart H to the revised 10 CFR Part 70.

The NRC developed NUREG-1718 to provide guidance to the NRC staff reviewers in the Office of Nuclear Material Safety and Safeguards who will perform safety, safeguards, and environmental reviews of the anticipated application for a license to possess and use special nuclear material for the MOX facility (including the construction approval review). The NRC developed NUREG-1718 in parallel with NUREG-1520, Standard Review Plan for the Review of a License Application for a Fuel Cycle Facility, which the NRC staff developed to support uranium fuel fabrication facilities licensed under 10 CFR Part 70. The NRC indicated its intent to issue a revision to 10 CFR Part 70. The NRC staff has ensured that NUREG-1718 remained consistent with the requirements of the new rule as proposed and has also attempted to ensure that, where applicable for a MOX facility, NUREG-1718 is consistent with NUREG-1520. However, reviewers and other readers should be aware that NUREG-1718 contains specific guidance for a license application from DCS for a MOX facility. The NRC does not intend to apply this guidance to any other facility under its regulatory authority.

NUREG-1718 is intended to ensure the quality, uniformity, stability, and predictability of the staff reviews. It presents a defined basis from which to evaluate proposed changes in the scope and requirements of the staff reviews. NUREG-1718 makes information about NRC acceptance criteria widely available to interested members of the public and the regulated industry. Each section of NUREG-1718 addresses the responsibilities of persons performing the review, the review areas, the Commission's regulations pertinent to specific technical matters, the acceptance criteria used by the staff, the method used to accomplish the review, and the conclusions that are appropriate for the Safety Evaluation Report (SER) for both the construction approval review and the license review.

Analysis of Public Comments

On February 1, 2000, the NRC issued a Notice of Availability that it was accepting public comments on the first draft of NUREG-1718 (65 FRN 4856). The public comment period closed on March 27, 2000, including a two-week extension at the request of the U.S. Department of Energy (DOE-65 FRN 13063).

The NRC received about 311 written comments from 12 commenters. On May 9, 2000, the NRC conducted a public meeting to discuss the public comments. In addition to NRC staff and other meeting participants, 6 of the commenters were represented. The NRC did not receive any significantly new comments at the public meeting. The NRC was able to consider all the comments it received in making revisions to NUREG-1718. A summary of the public comments and staff responses is available on the World Wide Web at http://www.nrc.gov/NMSS/FCSS/fcssindex.html.

Dated at Rockville, Maryland, this 17th day of August 2000.
For the Nuclear Regulatory Commission.
Robert C. Pierson,
Deputy Director, Division of Fuel Cycle Safety and Safeguards, Office of Nuclear Material Safety and Safeguards.

[FR Doc. 00-21512 Filed 8-22-00; 8:45 am]

BILLING CODE 7590-01-P